DEPARTMENT OF ENERGY

Federal Energy Regulatory Commission

[Docket No. OR07-6-000]

ConocoPhillips Company, Complainant v. SFPP, L.P, Respondent; Notice of Complaint

January 10, 2007.

Take notice that on January 9, 2007, ConocoPhillips Company (ConocoPhillips) filed a complaint pursuant to Rule 206 of the Commission's Rules of Practice and Procedure, 18 CFR 385.206, and the Commission's Procedural Rules Applicable to Oil Pipeline Proceedings, 18 CFR 341(a). The complaint alleges that SFPP, L.P. (SFPP) has violated and continues to violate the Interstate Commerce Act, 49 U.S.C. App. § 1, et seq., by charging unjust and unreasonable rates for SFPP's jurisdictional interstate service associated with its North Line.

ConocoPhillips requests that the Commission order SFPP: (1) To rescind the 2005 indexed increase in SFPP's North Line rates implemented in Tariff No. 117, (2) to rescind a portion of the 2006 increase in SFPP's North Line rates implemented in Tariff No. 127; and (3) to pay refunds or reparations, with interest, for the amounts collected from ConocoPhillips under the rescinded rates.

ConocoPhillips certifies that copies of the complaint were served on the contacts for SFPP as shown on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 29, 2007.

Magalie R. Salas,
Secretary.

[FR Doc. E7-567 Filed 1-17-07; 8:45 am]

BILLING CODE 6717-01-P